DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: “Provider Enrollment Form” (OWCP-1168). A copy of the proposed information collection request can be obtained by contacting the office listed below in the addressee section of this Notice.

DATES: Written comments must be submitted to the office listed in the ADDRESSES section below on or before December 9, 2002.

ADDRESSES: Ms. Patricia A. Forkel, U.S. Department of Labor, 200 Constitution Ave., NW., Room S-3201, Washington, DC 20210, telephone (202) 693-0339, fax (202) 693-1451, Email pforkel@fenix2.dol-esa.gov. Please use only one method of transmission for comments (mail, fax, or Email).

SUPPLEMENTARY INFORMATION:

I. Background

The Office of Workers' Compensation Programs (OWCP) administers the Federal Employees' Compensation Act; the Black Lung Benefits Act, the Energy Employees Occupational Illness Compensation Act, and the Longshore and Harbor Workers Compensation Act. These programs pay for medical services rendered for the diagnosis and treatment of injured workers for conditions compensable under the Acts. The Provider Enrollment Form (OWCP-1168) is currently used in the Black Lung and Energy programs to obtain profile information on medical providers which is necessary to process payments, apply fee schedules, and conduct checks to identify duplicate and other erroneous billing. This information collection is currently approved for use through February 2005.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks to expand the use of the OWCP 1168 to two additional programs, the Division of Longshore and Harbor Workers Compensation and the Division of Federal Employees' Compensation, as part of the development of a Centralized Medical Bill System for the processing of medical bills in each of OWCP's four programs. This centralization will result in an increase in efficiency of processing medical bills, reduction of administrative costs, and improvement of the efficiency of benefits and service provision. This collection request seeks approval of revisions to the current form to accommodate its use by The Division of Federal Employees' Compensation and the Division of Longshore and Harbor Worker's Compensation. In addition, this revision will facilitate the centralization of bill processing for all four programs under a Federal contractor. Providers must be enrolled in the new system prior to implementation to ensure the continuity of services to both the claimant and provider communities.

Type of Review: Revision.

Agency: Employment Standards Administration.

Title: Provider Enrollment Form.

OMB Number: 1215-0137.

Affected Public: Business or other for-profit.

Total Respondents/Responses: 20,100.

Frequency: On occasion.

Estimated Total Burden Hours: 2,497.

Total Burden Cost (capital/startup): $0.

Total Burden Cost (operating/maintenance): $8,040.

Comments submitted in response to this notice will be summarized and/or included in the request for Office of Management and Budget approval of the information collection request; they will also become a matter of public record.

Dated: October 3, 2002.
Margaret J. Sherrill,
Chief, Branch of Management Review and Internal Control, Division of Financial Management, Office of Management, Administration and Planning, Employment Standards Administration.

[FR Doc. 02-25664 Filed 10-8-02; 8:45 am]

BILLING CODE 4510-CK-P